ENVIRONMENTAL PROTECTION AGENCY

[FRL-7247-1]

Adequacy Status of Submitted State Implementation Plans (SIP) for Transportation Conformity Purposes: Baton Rouge Attainment Demonstration SIP for Ozone

AGENCY: Environmental Protection Agency (EPA).

ACTION: Notice of adequacy.

SUMMARY: In this notice, EPA is notifying the public that we have found that the on-road motor vehicle emissions budgets contained in the Baton Rouge serious ozone nonattainment area attainment demonstration SIP for the Baton Rouge 5-Parish ozone nonattainment area are adequate for transportation conformity purposes. As a result of our finding, the budgets from the submitted attainment demonstration SIP must be used for future conformity determinations in the Baton Rouge area.

DATES: These budgets are effective August 1, 2002.

FOR FURTHER INFORMATION CONTACT: The essential information in this notice will be available at EPA's conformity Web site: http://www.epa.gov/oms/transp/conform/adequacy.htm. You may also contact Mr. Kenneth W. Boyce, U.S. Environmental Protection Agency, Region 6, 1445 Ross Avenue, Dallas, Texas 75202; telephone (214) 665-7259 or by e-mail at: boyce.kenneth@.epa.gov.

SUPPLEMENTARY INFORMATION: Throughout this document wherever “we”, “us”, or “our” are used we mean EPA. The word “budgets” refers to the mobile source emission budget for volatile organic compounds (VOCs) and the mobile source emissions budget for nitrogen oxides (NOX). The word SIP in this document refers to the State Implementation Plan revision submitted to satisfy the attainment demonstration for ozone.

On December 28, 2001, we received the attainment demonstration SIP for the Baton Rouge 5—Parish ozone nonattainment area. There are two motor vehicle emissions budgets found in this plan for 2005. The emissions budget for VOCs is 15.48 tons/day and the emissions budget for NOX is 34.26 tons/day. On January 23, 2002, the availability of these budgets was posted on EPA's web site for the purpose of soliciting public comments. The comment period closed on February 22, 2002, and we received no comments.

Today's notice is simply an announcement of a finding that we have already made. EPA Region VI sent a letter to the Louisiana Department of Environmental Quality (LDEQ) on July 5, 2002, stating that the motor vehicle emissions budgets in the Baton Rouge 5—Parish ozone nonattainment area are adequate and they must be used for transportation conformity determinations.

Transportation conformity is required by section 176(c) of the Clean Air Act. The EPA's conformity rule, 40 CFR part 93, requires that transportation plans, programs, and projects conform to SIPs and establishes the criteria and procedures for determining whether or not they do. Conformity to a SIP means that transportation activities will not produce new air quality violations, worsen existing violations, or delay timely attainment of the national ambient air quality standards. The criteria by which EPA determines whether a SIP's motor vehicle emission budgets are adequate for conformity purposes are outlined in 40 CFR 93.118(e)(4). Please note that an adequacy review is separate from EPA's completeness review, and it should not be used to prejudge EPA's ultimate approval of the SIP. Even if we find a budget adequate, the SIP could later be disapproved.

On March 2, 1999, the DC Circuit Court of Appeals ruled that budgets contained in submitted SIPs cannot be used for conformity determinations unless EPA has affirmatively found the conformity budget adequate. We have described our process for determining the adequacy of submitted SIP budgets in the policy guidance dated May 14, 1999, and titled Conformity Guidance on Implementation of March 2, 1999 Conformity Court Decision. We followed this guidance in making our adequacy determination. You may obtain a copy of this guidance from EPA's conformity web site or by contacting us at the address above.

Dated: July 5, 2002.
Lawrence E. Starfield,
Regional Administrator, Region 6.

[FR Doc. 02-17984 Filed 7-16-02; 8:45 am]

BILLING CODE 6560-50-P